DEPARTMENT OF DEFENSE

Office of the Secretary

U.S. Strategic Command Strategic Advisory Group; Notice of Federal Advisory Committee Meeting

AGENCY: Office of the Chairman Joint Chiefs of Staff, U.S. Strategic Command Strategic Advisory Group, Department of Defense (DoD).

ACTION: Notice of closed Federal Advisory Committee meeting.

SUMMARY: The DoD is publishing this notice to announce that the following Federal Advisory Committee meeting of the U.S. Strategic Command Strategic Advisory Group (USSTRATCOM SAG) will take place.

DATES:

Day 1—Wednesday, October 27, 2021 from 12:00 p.m. to 5:00 p.m. (Closed)

Day 2—Thursday, October 28, 2021 from 9:00 a.m. to 5:00 p.m. (Closed)

ADDRESSES: 900 SAC Boulevard, Offutt Air Force Base, Nebraska 68113.

FOR FURTHER INFORMATION CONTACT: Mark Olson, (402) 912-0322 (voice), (facsimile), mark.j.olson.civ@mail.mil (email). Mailing address is 901 SAC Boulevard, Suite 1F7, Offutt AFB, NE 68113-6030.

SUPPLEMENTARY INFORMATION: This meeting is being held under the provisions of the Federal Advisory Committee Act (FACA) (5 U.S.C., appendix), the Government in the Sunshine Act (5 U.S.C. 552b), and 41 CFR 102-3.140 and 102-3.150.

Purpose of the Meeting: The purpose of the meeting is to provide independent advice on scientific, technical, intelligence, and policy-related issues to the U.S. Strategic Command, during the development of the Nation's strategic war plans.

Agenda: Topics include: Annual Stockpile Assessment; Nuclear Force Modernization; NC3 Enterprise Center (NEC) status deliverables and timeline; NC3 Joint All Domain Command and Control (JADC2); and Operations in a GPS Denied Environment and Deterring Russian/Chinese Escalation to Nuclear Use.

Meeting Accessibility: Pursuant to 5 U.S.C. 552b, and 41 CFR 102-3.155, the Department of Defense has determined that the meeting shall be closed to the public. Per delegated authority by the Chairman, Joint Chiefs of Staff, Admiral Charles A. Richard, Commander, U.S. Strategic Command, in consultation with his legal advisor, has determined in writing that the public interest requires that all sessions of this meeting be closed to the public because they will be concerned with matters listed in 5 U.S.C. 552b(c)(1).

Written Statements: Pursuant to section 10(a)(3) of the Federal Advisory Committee Act and 41 CFR 102-3.140, interested persons may submit written statements to the Designated Federal Officer for the USSTRATCOM SAG at any time. Written statements should be submitted to the Designated Federal Officer at the email or mailing address listed above in FOR FURTHER INFORMATION CONTACT. If statements pertain to a specific topic being discussed at a planned meeting, then these statements must be submitted no later than five (5) business days prior to the meeting in question. Written statements received after this date may not be provided to or considered by the USSTRATCOM SAG until its next meeting. The Designated Federal Officer will review all timely submitted written statements and provide copies to all the committee members before the meeting that is the subject of this notice.

Dated: September 29, 2021.
Aaron T. Siegel,
Alternate OSD Federal Register Liaison Officer, Department of Defense.

[FR Doc. 2021-21601 Filed 10-4-21; 8:45 am]

BILLING CODE 5001-06-P